DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held November 8 & 9, 2006, at the Bureau of Land Management's Lewistown Field Office, 920 NE. Main Street, in Lewistown, Montana. The November 8 session will begin at 10 a.m. with a 30-minute public comment period. This meeting is scheduled to adjourn at 6 p.m. The November 9 meeting will begin at 8 a.m. with a 30-minute public comment period. This meeting is scheduled to adjourn at 3 p.m.

SUPPLEMENTARY INFORMATION: This 15-member council advises the Secretary of the Interior on a variety of management issues associated with public land management in Montana. At this meeting the council will discuss/act upon:

The minutes of their preceding meeting;

A review of the RAC charter;

An orientation session for new and current members;

An update concerning the Missouri River Breaks National Monument RMP;

An update concerning the Judith Moccasin travel plan subgroup;

A report concerning recreation resource advisory committees;

A review of Undaunted Stewardship programs;

A review of livestock grazing regulations;

A presentation concerning the Kipp Business Plan;

Information concerning Revised Statute 2477;

An oil and gas activity briefing;

An update about the Valley Wind Farm;

A report concerning the initial Malta RMP scoping comments; and administrative details.

All RAC meetings are open to the public. The public may present written comments to the RAC. Each formal RAC meeting will also have time allocated for hearing public comments. Depending on the number of persons wishing to comment and time available, the time for individual oral comments may be limited.

FOR FURTHER INFORMATION CONTACT: June Bailey, Lewistown Field Manager, Lewistown Field Office, P.O. Box 1160, Lewistown, Montana 59457, 406/538-1900.

Dated: October 5, 2006.
Michael P. Stewart,
Associate Lewistown Field Manager.

[FR Doc. E6-16877 Filed 10-11-06; 8:45 am]

BILLING CODE 4310-$$-P